DEPARTMENT OF THE INTERIOR

National Park Service

[NPS-AKR-GAAR-22618; PR.RGAAR1502.00.1]

Extension of Time for Preparation of an Environmental and Economic Analysis, Gates of the Arctic National Preserve

AGENCY: National Park Service, Interior.

ACTION: Notice of extension of time.

SUMMARY: The time for completion of the draft and final environmental and economic analysis is being extended.

DATES: The date for completion of the draft environmental and economic analysis (EEA) is extended to March 29, 2019, and completion of the final EEA is extended to December 30, 2019.

ADDRESSES: Superintendent, Gates of the Arctic National Park and Preserve, 4175 Geist Road, Fairbanks, Alaska 99709.

FOR FURTHER INFORMATION CONTACT: Greg Dudgeon, Superintendent, Gates of the Arctic National Park and Preserve, 4175 Geist Road, Fairbanks, Alaska 99709. Telephone: 907-457-5752. Email: yuga_ambler_road@nps.gov.

SUPPLEMENTARY INFORMATION: An application for a right-of-way (ROW) across the Western (Kobuk River) unit of Gates of the Arctic National Preserve has been submitted by the Alaska Industrial Development and Export Authority (AIDEA) to the National Park Service, pursuant to section 201(4) of the Alaska National Interest Lands Conservation Act (ANILCA), 16 U.S.C. 410hh(4). That section requires the preparation of an environmental and economic analysis (EEA), and that the final EEA be completed within one year and the draft EEA be completed within nine months of the receipt of an application for such ROW. That analysis, however, is subject to the procedures set out in 16 U.S.C. 3164(e) and implemented by 43 CFR 36.6, which allow for extension of this time for completion of the draft and final EEA if additional time is determined to be necessary.

An application for a ROW was submitted by the AIDEA on November 25, 2015. The application was determined to be sufficient after submission of supplemental information on June 30, 2016, which was deemed the filing date of the application in accordance with 43 CFR 36.5(d)(1). The draft EEA is currently due nine months from that filing date, on March 30, 2017. The final EEA is currently due one year from that date, on June 30, 2017.

Although the segment of the proposed road within the National Preserve would be only 17 to 25 miles, the entire length of the proposed road would be 221 miles. For the road to be constructed, authorizations are also needed from other federal agencies. These include the U.S. Army Corps of Engineers (wetlands permit) and the Bureau of Land Management (right of way). An environmental impact statement (EIS) is required for those authorizations, and is expected to take several years to complete. In order to properly coordinate the permitting actions among the several agencies, and to minimize the chance of conflicting route determinations for the road, it is necessary to have the timing of the EEA be in general harmony with that of the EIS. For that reason, additional time is needed for the completion of the EEA.

Accordingly, the date for completion of the draft EEA is extended to March 29, 2019, and the date for completion of the final EEA is extended to December 30, 2019.

Dated: February 24, 2017.
Herbert C. Frost,
Regional Director, Alaska Region.

[FR Doc. 2017-03991 Filed 2-27-17; 8:45 am]

BILLING CODE 4312-52-P